DEPARTMENT OF HOMELAND SECURITY

Office of the Secretary

[Docket No. DHS-2009-0022]

DHS Data Privacy and Integrity Advisory Committee

AGENCY: Privacy Office, DHS.

ACTION: Committee Management; Notice of Open Teleconference Federal Advisory Committee Meeting.

SUMMARY: The DHS Data Privacy and Integrity Advisory Committee will meet by teleconference on February 3, 2009.

DATES: The teleconference call will take place on Tuesday, February 3, 2009, from 1 p.m. to 2 p.m. Eastern Standard Time.

ADDRESSES: Members of the public are welcome to listen to the meeting by calling (800) 320-4330 and entering Pin Number 215132. The number of teleconference lines is limited, however, and lines will be available on a first-come, first-served basis. Requests to have written material distributed to each member of the Committee prior to the meeting should reach Martha K. Landesberg, Executive Director, at the address below by January 29, 2009. Comments must include the Docket Number (DHS-2009-0022) and may be submitted by one of the following methods:

• Federal eRulemaking Portal: http://www.regulations.gov. Follow the instructions for submitting comments.

• E-mail: PrivacyCommittee@dhs.gov. Include the docket number in the subject line of the message.

• Fax: (703) 483-2999

• Mail: Martha K. Landesberg, Executive Director, Data Privacy and Integrity Advisory Committee, Department of Homeland Security, 20528.

Instructions: All submissions received must include the words “Department of Homeland Security Data Privacy and Integrity Advisory Committee” and the Docket Number: DHS-2009-0022. Comments received will also be posted without alteration at http://www.regulations.gov, including any personal information provided.

Docket: For access to the docket to read background documents or comments received by the DHS Data Privacy and Integrity Advisory Committee, go to http://www.regulations.gov.

FOR FURTHER INFORMATION CONTACT: Martha K. Landesberg, Executive Director, Data Privacy and Integrity Advisory Committee, Department of Homeland Security, Washington, DC 20528, by telephone (703) 235-0780, by fax (703) 235-0442, or by e-mail PrivacyCommittee@dhs.gov.

SUPPLEMENTARY INFORMATION: Notice of this meeting is given under the Federal Advisory Committee Act, 5 U.S.C. App. (Pub. L. 92-463). During the meeting, the DHS Data Privacy and Integrity Advisory Committee will deliberate and vote on a proposed letter to the new Secretary of Homeland Security and DHS Chief Privacy Officer outlining the Committee's recommendations on privacy issues and priorities for the Department. The Committee will discuss these matters from approximately 1 p.m. to 2 p.m. Eastern Standard Time on Tuesday, February 3, 2009. The Chairperson of the Committee shall conduct the teleconference in a way that will, in his judgment, facilitate the orderly conduct of business. Please note that the teleconference may end early if all business is completed.

If you wish to submit written materials to be distributed to each member of the Committee in advance of the meeting, please submit them, preferably in electronic form to facilitate distribution, to Martha K. Landesberg, Executive Director, by January 29, 2009.

Information on Services for Individuals With Disabilities

For information on services for individuals with disabilities or to request special assistance, contact Martha K. Landesberg, Executive Director, as soon as possible.

Dated: January 8, 2009.
John Kropf,
Deputy Chief Privacy Officer, Department of Homeland Security.

[FR Doc. E9-826 Filed 1-15-09; 8:45 am]

BILLING CODE 4410-10-P